DEPARTMENT OF HOMELAND SECURITY

Coast Guard

33 CFR 101,104,105,106

[Docket No. USCG-2007-28915]

Transportation Worker Identification Credential (TWIC)—Reader Requirements

AGENCY: Coast Guard, DHS.

ACTION: Notice of public meeting on proposed rulemaking; request for comments.

SUMMARY: The Coast Guard announces a public meeting to take place on April 25, 2013, in Houston, Texas to receive comments on a notice of proposed rulemaking published in the Federal Register on March 22, 2013, under the title “Transportation Worker Identification Credential (TWIC)—Reader Requirements.” The Coast Guard encourages members of the public to attend this meeting and provide oral comments on the notice of proposed rulemaking on TWIC reader requirements.

DATES: A public meeting will be held on Thursday, April 25, 2013, from 1:00 p.m. to 5:00 p.m. to provide an opportunity for oral comments. Coast Guard personnel will accept written comments and related materials at the public meeting as well. Written comments may also be submitted in response to the notice of proposed rulemaking referenced in the SUPPLEMENTARY INFORMATION section. The comment period for the notice of proposed rulemaking will close on May 21, 2013. All written comments and related materials submitted before or after the meeting must either be submitted to our online docket via http://www.regulations.gov on or before May 21, 2013, or reach the Docket Management Facility by that date.

ADDRESSES: The public meeting will be held at the Houston Marriott North, 255 N. Sam Houston Parkway East, Houston, Texas 77060. The building is accessible by taxi, public transit, and privately-owned conveyance.

This meeting is open to the public. Please note that the session may adjourn early if all business, concerns, and questions are addressed. You may submit written comments identified by docket number USCG-2007-28915 before or after the meeting using any one of the following methods:

(1) Federal eRulemaking Portal: http://www.regulations.gov.

(2) Fax: 202-493-2251.

(3)Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. Our online docket for this notice is available on the Internet at http://www.regulations.gov under docket number USCG-2007-28915.

FOR FURTHER INFORMATION CONTACT: If you have questions concerning the meeting, please call or email LCDR Gregory Callaghan, Commandant (CG-FAC-2), Coast Guard; telephone 202-372-1168, email Gregory.A.Callaghan@uscg.mil. If you have questions on viewing or submitting material to the docket, call Ms. Barbara Hairston, Program Manager, Docket Operations, telephone 202-366-9826.

SUPPLEMENTARY INFORMATION:

Background and Purpose

On March 22, 2013, the Coast Guard published a notice of proposed rulemaking (NPRM) in the Federal Register (78 FR 17781), in which we proposed to require owners and operators of certain vessels and facilities regulated by the Coast Guard to use electronic readers designed to work with the Transportation Worker Identification Credential (TWIC) as an access control measure. The NPRM also proposed additional requirements associated with electronic TWIC readers, including recordkeeping requirements for those owners and operators required to use an electronic TWIC reader, and security plan amendments to incorporate TWIC reader requirements. The TWIC program, including the TWIC reader requirements proposed in the NPRM, is an important component of the Coast Guard's multi-layered system of access control requirements and other measures designed to enhance maritime security.

As authorized by the Maritime Transportation Security Act of 2002 ¹ (MTSA), the Transportation Security Administration (TSA) established the TWIC program to address identity management shortcomings and vulnerabilities identified in the nation's transportation system and to comply with the MTSA statutory requirements. On January 25, 2007, the Department of Homeland Security (DHS), through the Coast Guard and TSA, promulgated regulations that require mariners and other individuals granted unescorted access to secure areas of MTSA-regulated vessels or facilities to undergo a security threat assessment by TSA and obtain a TWIC.²

¹ Public Law 107-295, 116 Stat. 2064 (Nov. 2, 2002).

² Transportation Worker Identification Credential (TWIC) Implementation in the Maritime Sector; Hazardous Materials Endorsement for a Commercial Driver's License, 72 FR 3492 (Jan. 25, 2007).

This NPRM that is the subject of this public meeting, which would require owners and operators of certain types of vessels and facilities to use electronic TWIC readers, would advance the goals of the TWIC program. In crafting the proposals in the NPRM, the Coast Guard conducted a risk-based analysis of MTSA-regulated vessels and facilities to categorize them into one of three risk groups, labeled A, B, and C. Risk Group A is comprised of vessels and facilities that present the highest risk of being involved in a transportation security incident (TSI).³ The NPRM proposes TWIC reader requirements for vessels and facilities in Risk Group A. Under the NPRM, vessels and facilities in Risk Groups B and C present progressively lower risks, and would continue to follow existing regulatory requirements for visual TWIC inspection.

³ A transportation security incident is a security incident resulting in a significant loss of life, environmental damage, transportation system disruption, or economic disruption in a particular area, as defined in 46 U.S.C. 70101 (49 CFR 1572.103).

The Coast Guard believes that in addition to receiving written comments on the NPRM, a public meeting would benefit the impacted community by providing another forum to raise relevant issues. Also, the Security and Accountability For Every (SAFE) Port Act of 2006 ⁴ requires the Coast Guard to hold at least one public hearing before promulgating final TWIC reader regulations (see 46 U.S.C. 70105(k)(3)). This public meeting will further enable the Coast Guard to craft policy informed by the public.

⁴ Public Law 109-347, 120 Stat. 1884 (Oct. 13, 2006).

We may hold one or more additional public meetings regarding the proposals in the NPRM on TWIC reader requirements. We will notify the public of the date(s), time(s), location(s), and other details of any such meeting(s) by publishing a separate notice in the Federal Register as soon as we have information available.

You may view the NPRM, written comments, and supporting documents in the online docket by going to http://www.regulations.gov and using “USCG-2007-28915” as your search term. Locate the NPRM among the search results and use the filters on the left side of the page to search for specific types of documents. If you do not have access to the Internet, you may view the docket online by visiting the Docket Management Facility in Room W12-140 on the ground floor of the Department of Transportation West Building, 1200 New Jersey Avenue SE., Washington, DC 20590, between 9:00 a.m. and 5:00 p.m., Monday through Friday, except Federal holidays. The Coast Guard has an agreement with the Department of Transportation to use its Docket Management Facility.

We encourage you to participate by submitting comments either orally at the meeting or in writing. If you bring written comments to the meeting, you may submit them to Coast Guard personnel specified at the meeting to receive written comments. These comments will be submitted to our online public docket. All comments received will be posted without change to http://www.regulations.gov and will include any personal information you have provided.

Anyone can search the electronic form of comments received into any of our dockets by the name of the individual submitting the comment (or signing the comment, if submitted on behalf of an association, business, labor union, or other entity). You may review a Privacy Act notice regarding our public dockets in the January 17, 2008, issue of the Federal Register (73 FR 3316).

Information on Services for Individuals With Disabilities

For information on facilities or services for individuals with disabilities or to request special assistance at the public meeting, contact LCDR Gregory Callaghan at the telephone number or email address indicated under the FOR FURTHER INFORMATION CONTACT section of this notice.

Public Meeting

The Coast Guard will hold a public meeting regarding the “Transportation Worker Identification Credential (TWIC)—Reader Requirements” NPRM (78 FR 17781) on Thursday, April 25, 2013 from 1:00 p.m. to 5:00 p.m., at the Houston Marriott North, 255 N Sam Houston Parkway East, Houston, Texas 77060. The building is accessible by taxi, public transit, and privately-owned conveyance. Please note that the session may adjourn early if all business, concerns, and questions are addressed. We will post a written summary of the meeting and oral comments in the docket.

Authority

This notice is issued under the authority of 46 U.S.C. 70105(k)(3) and 5 U.S.C. 552(a).

Dated: March 29, 2013.
J.R. Morgan,
Commander, U.S. Coast Guard, Chief, Cargo and Facility Division (CG-FAC-2).

[FR Doc. 2013-07733 Filed 4-3-13; 8:45 am]

BILLING CODE 9110-04-P